DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “AHRQ Healthcare Innovations Exchange Innovator Interview and AHRQ Healthcare Innovations Exchange Innovator E-mail Submission Guidelines.” In accordance with the Paperwork Reduction Act of 1995, 44 U.S.C. 3506(c)(2)(A), AHRQ invites the public to comment on this proposed information collection.

DATES: Comments on this notice must be received by October 20, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“AHRQ Healthcare Innovations Exchange Innovator Interview and AHRQ Healthcare Innovations Exchange Innovator E-mail Submission Guidelines”

To support its objective of accelerating the diffusion and adoption of innovative health care delivery changes, see, e.g., 42 U.S.C. 299b-5(a), the Agency for Healthcare Research and Quality (AHRQ) is launching the AHRQ Healthcare Innovations Exchange Web site (Innovations Exchange). The Innovations Exchange will make profiles of health care service innovations accessible to the public. These innovations must meet the following six criteria: (1) The innovation focuses directly or indirectly on patient care; (2) the innovation is intended to improve one or more domains of health care quality; (3) the activity is truly innovative in the context of its setting or target population; (4) information about the innovation is publicly available; (5) the innovator (or a representative) is willing and able to contribute information to the Health Care Innovations Exchange; and (6) there is reason to believe that the innovation will be effective. These are minimum requirements. The ultimate decision to publish a detailed profile of the innovation will depend on several factors, including an evaluation by AHRQ, AHRQ's priorities, and the number of similar ideas in the Innovations Exchange. AHRQ's priorities include identifying and highlighting innovations that will help reduce disparities in health care and health status, that will have significant impact on the overall value of health care, where the innovators have a strong interest in participating, and that have received support from AHRQ.

A purposively selected group of 825 health care innovations will be selected to be considered for the profiles that will be published on the Innovations Exchange. These 825 innovations will be selected to ensure that innovations included in the Innovations Exchange cover a broad range of health care settings, care processes, priority populations, and clinical conditions. To collect the information required for these profiles, approximately 825 health care innovators associated with these innovations will submit information on their innovation using the AHRQ Healthcare Innovations Exchange E-mail Submission Guidelines or be contacted by project staff. Innovators will be interviewed by telephone about their innovative activities.

Method of Collection

Approximately 825 innovators associated with innovations selected for consideration will either submit their innovation through e-mail for consideration or be contacted by telephone and asked to participate. Once their agreement to participate is secured, the innovators will be interviewed by telephone as needed (e-mail submitters will be instructed to provide specific information about their innovation in their initial submissions and may require only abbreviated telephone interviews) about the following aspects of their innovation: health care problem addressed, impetus for the innovation, goals of the innovation, description of the innovation, evaluation results for the innovation, setting for the innovation, history of planning and implementation for the innovation, and lessons learned concerning the implementation of the innovation. If the innovation is approved, a draft profile will be developed based on the information and sent by e-mail to the innovator for review and approval to publish. After the profile is published, on a yearly basis, innovators will be asked to review and update their profiles. No assurances of confidentiality will be made to the innovator.

Estimated Annual Respondent Burden

Exhibit 1 shows the estimated annualized burden hours for the respondents. Approximately 275 innovators will participate in the initial data collection each year for a total of 825 over the three year period. Of the 275 respondents per year, we estimate that approximately 15% (41) will submit information via e-mail and will thus be interviewed for a shorter period of time. The remaining 234 respondents that did not submit information via e-mail will be interviewed more extensively to capture the information required. The estimated annualized hours for the respondents' time to participate in the project is 401 hours.

Based on a review of materials from potential innovations, we estimate that approximately 10% of the candidate innovations either will not meet the inclusion criteria or their innovators will decide not to continue their participation. Therefore, about 90% (750) of the original 825 profiles will move into the publication stage.

For the 750 published profiles, annual follow-up interviews will be conducted to update the information about the innovation, which will average 30 minutes. Because the profiles will be prepared on a rolling basis over three years, the average number of yearly follow-up reviews per innovator will vary:

○ One third (250) of the profiles will be prepared in the first year and will have 2 annual reviews;

○ One third (250) of the profiles will be prepared in the second year and will have 1 annual review; and

○ One third (250) of the profiles will be prepared in the third year and will have 0 annual reviews.

Approximately 750 follow-up interviews will be conducted over the 3 years of this project resulting in an annualized average of 250 follow-up interviews per year, even though no follow-up interviews will be conducted in the first year.

Exhibit 1—Estimated Annualized Burden Hours
Form name | Number of respondents | Number of responses per respondent | Hours per response | Total burden hours
E-mail submission | 41 | 1 | 30/60 | 21
Health care innovator interview—following e-mail submission | 41 | 1 | 30/60 | 21
Health care innovator interview—without e-mail submission | 234 | 1 | 1 | 234
Annual follow-up interview | 250 | 1 | 30/60 | 125
Total | 566 |  |  | 401

Exhibit 2 shows the estimated annualized cost burden for the respondents. The Bureau of Labor Statistics reported that the average hourly wage for “healthcare practitioner and technical occupations” in the United States was $29.82 in May 2006. An estimate of $30 per hour allows for inflation and represents a conservative estimate of the wages of the respondents. Therefore, the total estimated cost burden for respondents is $12,030, based on the total estimated annualized burden of 401 hours.

Exhibit 2—Estimated Annualized Cost Burden
Form name | Number of respondents | Total burden hours | Average hourly wage rate * | Total cost burden
E-mail submission | 41 | 21 | $30 | $630
Health care innovator interview—following e-mail submission | 41 | 21 | 30 | 630
Health care innovator interview without e-mail submission | 234 | 234 | 30 | 7,020
Annual follow-up interview | 250 | 125 | 30 | 3,750
Total | 566 | 401 |  | 12,030
* Based upon the average wages, “National Compensation Survey: Occupational Wages in the United States, May 2006,” U.S. Department of Labor, Bureau of Labor Statistics.

Estimated Annual Costs to the Federal Government

The total cost to the Government is approximately $3,349,560 over three years (on average, $1,116,520 per year). These costs cover the total editorial and content development processes associated with the project; which include developing an on-line authoring tool for preparing the profiles, identifying innovation leads, reviewing e-mail submissions, contacting the innovators, conducting interviews, preparing the draft profiles, securing innovator approval, and publishing the profiles on the Innovations Exchange Web site.

Request for Comments

In accordance with the above-cited Paperwork Reduction Act legislation, comments on AHRQ's information collection are requested with regard to any of the following: (a) Whether the proposed collection of information is necessary for the proper performance of AHRQ health care research, quality improvement and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 12, 2008.
Carolyn M. Clancy,
Director.

[FR Doc. E8-19302 Filed 8-20-08; 8:45 am]

BILLING CODE 4160-90-M